DEPARTMENT OF THE INTERIOR

Bureau of Land Management

[(LLMT926000-L1440000.BJ0000); 16XL1109AF; MO#4500089414]

Notice of Filing of Plats of Survey; North Dakota

AGENCY: Bureau of Land Management, Interior.

ACTION: Notice of filing of plats of survey.

SUMMARY: The Bureau of Land Management (BLM) will file the plat of survey of the lands described below in the BLM Montana State Office, Billings, Montana, on February 19, 2016.

DATES: Protests of the survey must be filed before February 19, 2016 to be considered.

ADDRESSES: Protests of the survey should be sent to the Branch of Cadastral Survey, Bureau of Land Management, 5001 Southgate Drive, Billings, Montana 59101-4669.

FOR FURTHER INFORMATION CONTACT: Blaise Lodermeier, Cadastral Surveyor, Branch of Cadastral Survey, Bureau of Land Management, 5001 Southgate Drive, Billings, Montana 59101-4669, telephone (406) 896-5128 or (406) 896-5003, bloderme@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the Regional Director, Bureau of Indian Affairs, Great Plains Region, Aberdeen, South Dakota, and was necessary to determine individual and tribal trust surface and mineral lands.

The lands we surveyed are:

Fifth Principal Meridian, North Dakota

T. 147 N., R. 95 W.

The plat, in one sheet, representing the supplemental plat of sec. 1, showing the amended lottings, Township 147 North, Range 95 West, Fifth Principal Meridian, North Dakota, was accepted January 5, 2016.

We will place a copy of the plat, in one sheet, in the open files. They will be available to the public as a matter of information. If the BLM receives a protest against this survey, as shown on this plat, in one sheet, prior to the date of the official filing, we will stay the filing pending our consideration of the protest. We will not officially file this plat, in one sheet, until the day after we have accepted or dismissed all protests and they have become final, including decisions or appeals.

Authority: 43 U.S.C. chap. 3.

Joshua F. Alexander,
Acting Chief, Branch of Cadastral Survey, Division of Energy, Minerals and Realty.

[FR Doc. 2016-00946 Filed 1-19-16; 8:45 am]

BILLING CODE 4310-DN-P